DEPARTMENT OF TRANSPORTATION

Federal Aviation Administration

14 CFR Part 97

[Docket No. 30911; Amdt. No. 3546]

Standard Instrument Approach Procedures, and Takeoff Minimums and Obstacle Departure Procedures; Miscellaneous Amendments

AGENCY: Federal Aviation Administration (FAA), DOT.

ACTION: Final rule.

SUMMARY: This rule establishes, amends, suspends, or revokes Standard Instrument Approach Procedures (SIAPs) and associated Takeoff Minimums and Obstacle Departure Procedures for operations at certain airports. These regulatory actions are needed because of the adoption of new or revised criteria, or because of changes occurring in the National Airspace System, such as the commissioning of new navigational facilities, adding new obstacles, or changing air traffic requirements. These changes are designed to provide safe and efficient use of the navigable airspace and to promote safe flight operations under instrument flight rules at the affected airports.

DATES: This rule is effective August 12, 2013. The compliance date for each SIAP, associated Takeoff Minimums, and ODP is specified in the amendatory provisions.

The incorporation by reference of certain publications listed in the regulations is approved by the Director of the Federal Register as of August 12, 2013.

ADDRESSES: Availability of matters incorporated by reference in the amendment is as follows:

For Examination—

1. FAA Rules Docket, FAA Headquarters Building, 800 Independence Avenue SW., Washington, DC 20591;

2. The FAA Regional Office of the region in which the affected airport is located;

3. The National Flight Procedures Office, 6500 South MacArthur Blvd., Oklahoma City, OK 73169 or,

4. The National Archives and Records Administration (NARA). For information on the availability of this material at NARA, call 202-741-6030, or go to: http://www.archives.gov/federal_register/code_of_federal_regulations/ibr_locations.html.

Availability—All SIAPs and Takeoff Minimums and ODPs are available online free of charge. Visit http://www.nfdc.faa.gov to register. Additionally, individual SIAP and Takeoff Minimums and ODP copies may be obtained from:

1. FAA Public Inquiry Center (APA-200), FAA Headquarters Building, 800 Independence Avenue SW., Washington, DC 20591; or

2. The FAA Regional Office of the region in which the affected airport is located.

FOR FURTHER INFORMATION CONTACT: Richard A. Dunham III, Flight Procedure Standards Branch (AFS-420), Flight Technologies and Programs Divisions, Flight Standards Service, Federal Aviation Administration, Mike Monroney Aeronautical Center, 6500 South MacArthur Blvd. Oklahoma City, OK 73169 (Mail Address: P.O. Box 25082, Oklahoma City, OK 73125) Telephone: (405) 954-4164.

SUPPLEMENTARY INFORMATION: This rule amends Title 14 of the Code of Federal Regulations, Part 97 (14 CFR part 97), by establishing, amending, suspending, or revoking SIAPS, Takeoff Minimums and/or ODPS. The complete regulators description of each SIAP and its associated Takeoff Minimums or ODP for an identified airport is listed on FAA form documents which are incorporated by reference in this amendment under 5 U.S.C. 552(a), 1 CFR part 51, and 14 CFR 97.20. The applicable FAA Forms are FAA Forms 8260-3, 8260-4, 8260-5, 8260-15A, and 8260-15B when required by an entry on 8260-15A.

The large number of SIAPs, Takeoff Minimums and ODPs, in addition to their complex nature and the need for a special format make publication in the Federal Register expensive and impractical. Furthermore, airmen do not use the regulatory text of the SIAPs, Takeoff Minimums or ODPs, but instead refer to their depiction on charts printed by publishers of aeronautical materials. The advantages of incorporation by reference are realized and publication of the complete description of each SIAP, Takeoff Minimums and ODP listed on FAA forms is unnecessary. This amendment provides the affected CFR sections and specifies the types of SIAPs and the effective dates of the, associated Takeoff Minimums and ODPs. This amendment also identifies the airport and its location, the procedure, and the amendment number.

The Rule

This amendment to 14 CFR part 97 is effective upon publication of each separate SIAP, Takeoff Minimums and ODP as contained in the transmittal. Some SIAP and Takeoff Minimums and textual ODP amendments may have been issued previously by the FAA in a Flight Data Center (FDC) Notice to Airmen (NOTAM) as an emergency action of immediate flight safety relating directly to published aeronautical charts. The circumstances which created the need for some SIAP and Takeoff Minimums and ODP amendments may require making them effective in less than 30 days. For the remaining SIAPS and Takeoff Minimums and ODPS, an effective date at least 30 days after publication is provided.

Further, the SIAPs and Takeoff Minimums and ODPS contained in this amendment are based on the criteria contained in the U.S. Standard for Terminal Instrument Procedures (TERPS). In developing these SIAPS and Takeoff Minimums and ODPs, the TERPS criteria were applied to the conditions existing or anticipated at the affected airports. Because of the close and immediate relationship between these SIAPs, Takeoff Minimums and ODPs, and safety in air commerce, I find that notice and public procedures before adopting these SIAPS, Takeoff Minimums and ODPs are impracticable and contrary to the public interest and, where applicable, that good cause exists for making some SIAPs effective in less than 30 days.

Conclusion

The FAA has determined that this regulation only involves an established body of technical regulations for which frequent and routine amendments are necessary to keep them operationally current. It, therefore—(1) Is not a “significant regulatory action” under Executive Order 12866; (2) is not a “significant rule” under DOT Regulatory Policies and Procedures (44 FR 11034; February 26,1979); and (3) does not warrant preparation of a regulatory evaluation as the anticipated impact is so minimal. For the same reason, the FAA certifies that this amendment will not have a significant economic impact on a substantial number of small entities under the criteria of the Regulatory Flexibility Act.

List of Subjects in 14 CFR Part 97

Air Traffic Control, Airports, Incorporation by reference, and Navigation (Air).

Issued in Washington, DC on July 19, 2013.
John Duncan
Deputy Director, Flight Standards Service.

Adoption of the Amendment

Accordingly, pursuant to the authority delegated to me, Title 14, Code of Federal Regulations, Part 97 (14 CFR part 97) is amended by establishing, amending, suspending, or revoking Standard Instrument Approach Procedures and/or Takeoff Minimums and/or Obstacle Departure Procedures effective at 0902 UTC on the dates specified, as follows:

PART 97—STANDARD INSTRUMENT APPROACH PROCEDURES

1. The authority citation for part 97 continues to read as follows:

Authority: 49 U.S.C. 106(g), 40103, 40106, 40113, 40114, 40120, 44502, 44514, 44701, 44719, 44721-44722.

2. Part 97 is amended to read as follows:

Effective 22 August 2013

Soldotna, AK, Soldotna, RNAV (GPS) RWY 25, Amdt 1

Dumas, AR, Billy Free Muni, RNAV (GPS) RWY 36, Amdt 1

Fresno, CA, Fresno Yosemite Intl, VOR/DME OR TACAN RWY 29R, Amdt 2

Washington, DC, Manassas Rgnl/Harry P. Davis Field, RNAV (GPS) RWY 34R, Amdt 2

Palm Coast, FL, Flagler County, VOR-A, Amdt 1A, CANCELED

Panama City, FL, Northwest Florida Beaches Intl, ILS OR LOC/DME RWY 16, Amdt 2

Panama City, FL, Northwest Florida Beaches Intl, RNAV (GPS) RWY 16, Amdt 2

Panama City, FL, Northwest Florida Beaches Intl, RNAV (GPS) RWY 34, Amdt 2

West Palm Beach, FL, Palm Beach County Park, RNAV (GPS)-A, Orig

West Palm Beach, FL, Palm Beach County Park, RNAV (GPS)-B, Orig

West Palm Beach, FL, Palm Beach County Park, VOR OR GPS RWY 15, Amdt 2C, CANCELED

Atlanta, GA, Atlanta South Rgnl, RNAV (GPS) RWY 6, Amdt 1

Atlanta, GA, Atlanta South Rgnl, RNAV (GPS) RWY 24, Amdt 1

Atlanta, GA, Atlanta South Rgnl, Takeoff Minimums and Obstacle DP, Amdt 1

Butler, GA, Butler Muni, RNAV (GPS) RWY 18, Amdt 1

Butler, GA, Butler Muni, RNAV (GPS) RWY 36, Amdt 1

Butler, GA, Butler Muni, Takeoff Minimums and Obstacle DP, Amdt 1

Burlington, IA, Southeast Iowa Rgnl, RNAV (GPS) RWY 12, Amdt 1

Burlington, IA, Southeast Iowa Rgnl, RNAV (GPS) RWY 30, Amdt 1

Marshalltown, IA, Marshalltown Muni, Takeoff Minimums and Obstacle DP, Amdt 1

Effingham, IL, Effingham County Memorial, LOC RWY 29, Amdt 1E

Effingham, IL, Effingham County Memorial, VOR RWY 1, Amdt 10B

Robinson, IL, Crawford Co, RNAV (GPS) RWY 9, Amdt 1

Robinson, IL, Crawford Co, RNAV (GPS) RWY 17, Orig

Robinson, IL, Crawford Co, RNAV (GPS) RWY 27, Amdt 1

Robinson, IL, Crawford Co, VOR OR GPS RWY 17, Amdt 4A, CANCELED

Robinson, IL, Crawford Co, VOR OR GPS RWY 27, Amdt 4A, CANCELED

Frankfort, IN, Frankfort Muni, RNAV (GPS) RWY 9, Amdt 1

Frankfort, IN, Frankfort Muni, RNAV (GPS) RWY 27, Amdt 1

Indianapolis, IN, Hendricks County-Gordon Graham Fld, RNAV (GPS) RWY 18, Amdt 1

Indianapolis, IN, Hendricks County-Gordon Graham Fld, RNAV (GPS) RWY 36, Orig

Sullivan, IN, Sullivan County, RNAV (GPS) RWY 36, Orig-A

Wichita, KS, Beech Factory, Takeoff Minimums and Obstacle DP, Amdt 1

Jamestown, KY, Russell County, RNAV (GPS) RWY 17, Amdt 1

Jamestown, KY, Russell County, RNAV (GPS) RWY 35, Amdt 1

Tompkinsville, KY, Tompkinsville-Monroe County, RNAV (GPS) RWY 22, Amdt 1

Rayville, LA, John H Hooks Jr Memorial, RNAV (GPS) RWY 18, Amdt 1

Rayville, LA, John H Hooks Jr Memorial, RNAV (GPS) RWY 36, Amdt 2

Shreveport, LA, Shreveport Rgnl, LOC RWY 6, Amdt 2

Shreveport, LA, Shreveport Rgnl, RADAR-1, Amdt 5

Shreveport, LA, Shreveport Rgnl, RNAV (GPS) RWY 6, Amdt 2

Shreveport, LA, Shreveport Rgnl, RNAV (GPS) RWY 24, Amdt 1

Shreveport, LA, Shreveport Rgnl, Takeoff Minimums and Obstacle DP, Amdt 1

Hagerstown, MD, Hagerstown Rgnl-Richard A Henson Fld, COPTER RNAV (GPS) RWY 9, Orig

Hagerstown, MD, Hagerstown Rgnl-Richard A Henson Fld, COPTER RNAV (GPS) RWY 27, Orig

Hagerstown, MD, Hagerstown Rgnl-Richard A Henson Fld, ILS OR LOC RWY 9, Amdt 1

Hagerstown, MD, Hagerstown Rgnl-Richard A Henson Fld, ILS OR LOC RWY 27, Amdt 11

Hagerstown, MD, Hagerstown Rgnl-Richard A Henson Fld, RNAV (GPS) RWY 27, Amdt 1

Machias, ME, Machias Valley, Takeoff Minimums and Obstacle DP, Amdt 2

Perham, MN, Perham Muni, RNAV (GPS) RWY 13, Orig

Perham, MN, Perham Muni, RNAV (GPS) RWY 31, Amdt 1

Perham, MN, Perham Muni, Takeoff Minimums and Obstacle DP, Amdt 1

Slayton, MN, Slayton Muni, GPS RWY 35, Orig, CANCELED

Slayton, MN, Slayton Muni, RNAV (GPS) RWY 17, Orig

Slayton, MN, Slayton Muni, RNAV (GPS) RWY 35, Orig

Waseca, MN, Waseca Muni, RNAV (GPS) RWY 15, Amdt 1

Waseca, MN, Waseca Muni, RNAV (GPS) RWY 33, Orig

Kaiser Lake Ozark, MO, Lee C Fine Memorial, VOR RWY 4, Amdt 7A

St Louis, MO, Lambert-St Louis Intl, ILS PRM RWY 11, ILS PRM RWY 11 (CAT II), ILS PRM RWY 11 (CAT III) (SIMULTANEOUS CLOSE PARALLEL), Orig-C, CANCELED

St Louis, MO, Lambert-St Louis Intl, ILS PRM RWY 12L, ILS PRM RWY 12L (CAT II), ILS PRM RWY 12L (CAT III) (SIMULTANEOUS CLOSE PARALLEL), Amdt 1A, CANCELED

St Louis, MO, Lambert-St Louis Intl, ILS PRM RWY 29 (SIMULTANEOUS CLOSE PARALLEL), Amdt 1B, CANCELED

St Louis, MO, Lambert-St Louis Intl, ILS PRM RWY 30R, ILS PRM RWY 30R (CAT II), ILS PRM RWY 30R (CAT III) (SIMULTANEOUS CLOSE PARALLEL), Amdt 1C, CANCELED

Batesville, MS, Panola County, LOC/DME RWY 19, Amdt 1

Batesville, MS, Panola County, RNAV (GPS) RWY 1, Amdt 1

Batesville, MS, Panola County, RNAV (GPS) RWY 19, Amdt 1

Batesville, MS, Panola County, Takeoff Minimums and Obstacle DP, Amdt 1

Jackson, MS, Jackson-Medgar Wiley Evers International, RNAV (GPS) RWY 16L, Amdt 2

Jackson, MS, Jackson-Medgar Wiley Evers International, RNAV (GPS) RWY 16R, Amdt 2

Jackson, MS, Jackson-Medgar Wiley Evers International, RNAV (GPS) RWY 34L, Amdt 3

Jackson, MS, Jackson-Medgar Wiley Evers International, RNAV (GPS) RWY 34R, Amdt 2

Kosciusko, MS, Kosciusko-Attala County, RNAV (GPS) RWY 14, Orig-A

Kosciusko, MS, Kosciusko-Attala County, RNAV (GPS) RWY 32, Orig-A

Meridian, MS, Key Field, Takeoff Minimums and Obstacle DP, Amdt 5

Raymond, MS, John Bell Williams, RNAV (GPS) RWY 12, Amdt 3

Raymond, MS, John Bell Williams, RNAV (GPS) RWY 30, Amdt 3

Wilmington, NC, Wilmington Intl, ILS Y OR LOC RWY 24, Amdt 1

Wilmington, NC, Wilmington Intl, ILS Y OR LOC RWY 35, Amdt 22

Wilmington, NC, Wilmington Intl, ILS Y OR LOC/DME RWY 6, Amdt 2

Wilmington, NC, Wilmington Intl, ILS Z RWY 6, Orig

Wilmington, NC, Wilmington Intl, ILS Z RWY 24, Orig

Wilmington, NC, Wilmington Intl, ILS Z RWY 35, Orig

Wilmington, NC, Wilmington Intl, RNAV (GPS) RWY 6, Amdt 3

Wilmington, NC, Wilmington Intl, RNAV (GPS) RWY 17, Amdt 3

Wilmington, NC, Wilmington Intl, RNAV (GPS) RWY 24, Amdt 2

Wilmington, NC, Wilmington Intl, RNAV (GPS) RWY 35, Amdt 3

Scribner, NE., Scribner State, RNAV (GPS) RWY 17, Amdt 1

Scribner, NE., Scribner State, RNAV (GPS) RWY 35, Amdt 1

Clayton, NM, Clayton Muni Arpk, RNAV (GPS) RWY 2, Amdt 2

Clayton, NM, Clayton Muni Arpk, RNAV (GPS) RWY 20, Amdt 2

Columbus, OH, Port Columbus Intl, ILS OR LOC RWY 10L, Amdt 19

Columbus, OH, Port Columbus Intl, ILS OR LOC RWY 10R, ILS RWY 10R (SA CAT I), Amdt 9

Columbus, OH, Port Columbus Intl, ILS OR LOC RWY 28L, ILS RWY 28L (SA CAT I), Amdt 29

Columbus, OH, Port Columbus Intl, ILS OR LOC RWY 28R, Amdt 4

Columbus, OH, Port Columbus Intl, RNAV (GPS) Y RWY 10L, Amdt 3

Columbus, OH, Port Columbus Intl, RNAV (GPS) Y RWY 10R, Amdt 3

Columbus, OH, Port Columbus Intl, RNAV (GPS) Y RWY 28L, Amdt 3

Columbus, OH, Port Columbus Intl, RNAV (GPS) Y RWY 28R, Amdt 2

Columbus, OH, Port Columbus Intl, RNAV (RNP) Z RWY 10L, Amdt 1

Columbus, OH, Port Columbus Intl, RNAV (RNP) Z RWY 10R, Amdt 1

Columbus, OH, Port Columbus Intl, RNAV (RNP) Z RWY 28L, Amdt 1

Columbus, OH, Port Columbus Intl, RNAV (RNP) Z RWY 28R, Amdt 1

Columbus, OH, Port Columbus Intl, Takeoff Minimums and Obstacle DP, Amdt 7

Union, SC, Union County, Troy Shelton Field, RNAV (GPS) RWY 5, Orig

Union, SC, Union County, Troy Shelton Field, RNAV (GPS) RWY 23, Orig

Union, SC, Union County, Troy Shelton Field, Takeoff Minimums and Obstacle DP, Amdt 1

Walterboro, SC, Lowcountry Rgnl, ILS OR LOC/DME RWY 23, Amdt 1

Walterboro, SC, Lowcountry Rgnl, NDB RWY 23, Amdt 12, CANCELED

Walterboro, SC, Lowcountry Rgnl, RNAV (GPS) RWY 5, Amdt 1

Walterboro, SC, Lowcountry Rgnl, RNAV (GPS) RWY 23, Amdt 1

Midland, TX, Midland Intl, ILS OR LOC RWY 10, Amdt 16

Midland, TX, Midland Intl, LOC BC RWY 28, Amdt 13, CANCELED

Sherman, TX, Sherman Muni, RNAV (GPS) RWY 16, Orig

Sherman, TX, Sherman Muni, RNAV (GPS) RWY 34, Orig

Sherman, TX, Sherman Muni, Takeoff Minimums and Obstacle DP, Amdt 1

Sherman, TX, Sherman Muni, VOR/DME-A, Orig-C

Stafford, VA, Stafford Rgnl, Takeoff Minimums and Obstacle DP, Amdt 1

Port Townsend, WA, Jefferson County Intl, RNAV (GPS)-A, Orig

Port Townsend, WA, Jefferson County Intl, Takeoff Minimums and Obstacle DP, Orig

Spokane, WA, Felts Field, ILS OR LOC/DME RWY 22R, Amdt 1

Spokane, WA, Felts Field, RNAV (GPS) RWY 4L, Amdt 1

Spokane, WA, Felts Field, RNAV (GPS)-A, Amdt 1

Spokane, WA, Felts Field, VOR RWY 4L, Amdt 5

Oshkosh, WI, Wittman Rgnl, ILS OR LOC RWY 36, Amdt 7

Oshkosh, WI, Wittman Rgnl, LOC/DME BC RWY 18, Amdt 7

Oshkosh, WI, Wittman Rgnl, NDB RWY 36, Amdt 6

Oshkosh, WI, Wittman Rgnl, RNAV (GPS) RWY 9, Amdt 1

Oshkosh, WI, Wittman Rgnl, RNAV (GPS) RWY 18, Amdt 1

Oshkosh, WI, Wittman Rgnl, RNAV (GPS) RWY 27, Amdt 1

Oshkosh, WI, Wittman Rgnl, RNAV (GPS) RWY 36, Amdt 2

Oshkosh, WI, Wittman Rgnl, Takeoff Minimums and Obstacle DP, Amdt 1

Oshkosh, WI, Wittman Rgnl, VOR RWY 9, Amdt 10

Oshkosh, WI, Wittman Rgnl, VOR RWY 18, Amdt 8

Oshkosh, WI, Wittman Rgnl, VOR RWY 27, Amdt 5

Oshkosh, WI, Wittman Rgnl, VOR RWY 36, Amdt 17

[FR Doc. 2013-18841 Filed 8-9-13; 8:45 am]

BILLING CODE 4910-13-P